DEPARTMENT OF JUSTICE

Antitrust Division

Notice Pursuant to the National Cooperative Research and Production Act of 1993—Biopharmaceutical Manufacturing Preparedness Consortium

Notice is hereby given that, on October 3, 2024, pursuant to section 6(a) of the National Cooperative Research and Production Act of 1993, 15 U.S.C. 4301 et seq. (“the Act”), Biopharmaceutical Manufacturing Preparedness Consortium (“BioMaP-Consortium”) has filed written notifications simultaneously with the Attorney General and the Federal Trade Commission disclosing changes in its membership. The notifications were filed for the purpose of extending the Act's provisions limiting the recovery of antitrust plaintiffs to actual damages under specified circumstances.

Specifically, Asimov, Inc., Boston, MA; Bayer Healthcare LLC, Whippany, NJ; CHIMunomics, Ltd., Horsell, UNITED KINGDOM; Carnegie Mellon University, Pittsburgh, PA; Emergent Product Development Gaithersburg, Inc., Gaithersburg, MD; Enzene, Inc., Pennington, NJ; GE Medical Systems Information Technologies, Inc. d.b.a. GE HealthCare Technology & Innovation Center, Niskayuna, NY; Just-Evotec Biologics, Seattle, WA; Medbio LLC, Grand Rapids, MI; Molding Services of Illinois, Inc., Olney, IL; Novas Bio, Inc., Union City, CA; Qoolabs, Inc., Carlsbad, CA; SPOC Proteomics, Inc., Scottsdale, AZ; SaniSure, Inc., Camarillo, CA; AlphaGem Bio, Inc., Fremont, CA; Azure Medical, Inc., La Verne, CA; BioFactura, Inc., Frederick, MD; Brightstar Innovations Group LLC, Arlington, VA; Croda, Inc., Mill Hall, PA; Hamilton Company, Reno, NV; Komo Biosciences, Inc., Cambridge, MA; Mustard Seed PMO LLC, West Chester, PA; Nephron Nitrile LLC, West Columbia, SC; Rutgers University, Piscataway, NJ; The Tiny Cargo Company, Roanoke, VA; VGXI, Inc., Conroe, TX; Wild Microbes Company, Cambridge, MA; Arcology, Inc., Culver City, CA; Avery Digital Data, Inc., La Jolla, CA; Louis M Gerson Co, Inc., Middleboro, MA; Mark Cuban Cost Plus Drug Company, PBC, Dallas, TX; Vulcan Bioworks LLC, Dover, DE; Arcturus Therapeutics Holdings, Inc., San Diego, CA; Dentec Safety Specialists Corp., Lenexa, KS; Guide Biomedical Solutions LLC, Media, PA; Integral Molecular, Philadelphia, PA; Shreenika Pioneering, San Diego, CA; Applied Research Associates, Albuquerque, NM; DemeTech Corp., Miami, FL; Quantoom Biosciences SA, Nivelles, BELGIUM; Reusable Respirators LLC, Panama City, FL; SafeSource Direct, LLC, Broussard, LA; Vaxine Pty Ltd., Warradale, AUSTRALIA; 3M Company, St. Paul, MN; Amneal Pharmaceuticals of New York, LLC, Brookhaven, NY; CMMCM LLC, Las Vegas, NV; Foothill Scientific Associates, Lake Forest, CA; Innerspace GmbH, Insnbruck, AUSTRIA; Jurata Thin Film, Inc., Chapel Hill, NC; LTS Lohmann Therapie-Systeme AG, Andernach, GERMANY; O&M Halyard, Inc., Alpharetta, GA; PNUVAX, Inc., Wilmington, DE; Pacto Medical, Inc., Newark, DE; Shawmut LLC, West Bridgewater, MA; US Medical Glove, Harvard, IL; Univercells S.A., Charleroi, BELGIUM; and Vivaldi Biosciences Inc., Fort Collins, CO, have been added as parties to this venture.

No other changes have been made in either the membership or planned activity of the group research project. Membership in this group research project remains open, and the BioMaP-Consortium intends to file additional written notifications disclosing all changes in membership.

On January 5, 2024, the BioMaP- Consortium filed its original notification pursuant to section 6(a) of the Act. The Department of Justice published a notice in the Federal Register pursuant to section 6(b) of the Act on April 16, 2024 (89 FR 26923).

The last notification was filed with the Department on July 11, 2024. The Department of Justice published a notice in the Federal Register pursuant to section 6(b) of the Act on October 11, 2024 (89 FR 82628).

Suzanne Morris,
Deputy Director Civil Enforcement Operations, Antitrust Division.

[FR Doc. 2024-30402 Filed 12-19-24; 8:45 am]

BILLING CODE P